SECURITIES AND EXCHANGE COMMISSION

[File No. 500-1]

In the Matter of Striper Energy, Inc.; Order of Suspension of Trading

May 6, 2016.

It appears to the Securities and Exchange Commission that there is a lack of current and accurate information concerning the securities of Striper Energy, Inc. (“Striper”) due to questions regarding the accuracy and adequacy of publicly disseminated information in the company's December 31, 2015 annual report and accompanying financials provided to OTC Markets Group, Inc. (“OTC Markets”) concerning, among other things, Striper's operations and financial obligations. Striper is a Florida corporation based in Addison, Texas. Its securities are quoted on OTC Link (previously “Pink Sheets”), operated by OTC Markets, under the ticker symbol “CPCCD.”

The Commission is of the opinion that the public interest and the protection of investors require a suspension of trading in the securities of the above-listed company.

Therefore, it is ordered, pursuant to Section 12(k) of the Securities Exchange Act of 1934, that trading in the securities of the above-listed company is suspended for the period from 9:30 a.m. EDT on May 6, 2016, through 11:59 p.m. EDT on May 19, 2016.

By the Commission.
Lynn M. Powalski,
Deputy Secretary.

[FR Doc. 2016-11065 Filed 5-6-16; 4:15 pm]

BILLING CODE 8011-01-P